DEPARTMENT OF TRANSPORTATION

Federal Aviation Administration

14 CFR Part 39

[Docket No. FAA-2006-24522; Directorate Identifier 2006-NM-002-AD]

RIN 2120-AA64

Airworthiness Directives; Airbus Model A330-200 and -300, and A340-200 and -300 Series Airplanes

AGENCY: Federal Aviation Administration (FAA), Department of Transportation (DOT).

ACTION: Notice of proposed rulemaking (NPRM).

SUMMARY: The FAA proposes to adopt a new airworthiness directive (AD) for certain Airbus Model A330-200 and -300, and A340-200 and -300 series airplanes. This proposed AD would require modifying certain rotary actuator assemblies for the leading edge slat. This proposed AD results from a leak found at the seal of the torque limiter output shaft of the Type A rotary actuator of leading edge slat No. 1. We are proposing this AD to prevent a decrease in the torque limiter function, which could result in degradation and damage to the attachment bolts of the leading edge slat, loss of the slat, and consequent reduced control of the airplane.

DATES: We must receive comments on this proposed AD by May 22, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for the service information identified in this proposed AD.

FOR FURTHER INFORMATION CONTACT: Tim Backman, Aerospace Engineer, International Branch, ANM-116, Transport Airplane Directorate, FAA, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed in the ADDRESSES section. Include the docket number “FAA-2006-24522; Directorate Identifier 2006-NM-002-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A330-200 and -300, and A340-200 and -300 series airplanes. The DGAC advises of a leak at the seal of the torque limiter output shaft of the Type A rotary actuator assembly of leading edge slat No. 1. The leak was found during a scheduled maintenance check. Investigation revealed that the parts of the torque limiter were contaminated with grease; the grease migrated from the power gear stage. The grease migration was possible only after re-greasing, as the quantity of grease used during production is insufficient to migrate to the torque limiter. This condition, if not corrected, could result in a decrease in the torque limiter function, which could result in degradation and damage to the attachment bolts of the leading edge slat, loss of the slat, and consequent reduced control of the airplane.

Relevant Service Information

Airbus has issued Service Bulletins A330-27-3100, Revision 01 (for Model A330-200 and -300 series airplanes), and A340-27-4106, Revision 01 (for Model A340-200 and -300 series airplanes), both dated May 23, 2005. The service bulletins describe procedures for modifying certain rotary actuator assemblies for the leading edge slat.

Airbus has also issued Service Bulletins A330-27-3105, Revision 02 (for Model A330-200 and -300 series airplanes), and A340-27-4110, Revision 02 (for Model A340-200 and -300 series airplanes), both dated October 10, 2005. The service bulletins describe an alternate procedure for modifying any rotary actuator assembly for the leading edge slat having part number 954B0000-01.

Accomplishing the actions specified in Airbus Service Bulletins A330-27-3100, A330-27-3105, A340-27-4106, and A340-27-4110, as applicable, is intended to adequately address the unsafe condition.

Airbus Service Bulletins A330-27-3100, A330-27-3105, A340-27-4106, and A340-27-4110 refer to Goodrich Actuation Systems Service Bulletins 954-27-M954-06, Revision 2, dated May 20, 2004, and 954-27-M954-07, Revision 2, dated August 9, 2004, as additional sources of service information for modifying the rotary actuator assembly for the leading edge slat.

The DGAC mandated the Airbus Service information, and issued French airworthiness directives F-2005-067 and F-2005-068, both dated April 27, 2005, to ensure the continued airworthiness of these airplanes in France.

FAA's Determination and Requirements of the Proposed AD

These airplane models are manufactured in France and are type certificated for operation in the United States under the provisions of § 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in Airbus Service Bulletins A330-27-3100, A330-27-3105, A340-27-4106, and A340-27-4110, described previously, except as discussed under Differences Among the Proposed AD, French Airworthiness Directives, and Airbus Service Bulletins A330-27-3100 and A340-27-4106.

Differences Among the Proposed AD, French Airworthiness Directives, and Airbus Service Bulletins A330-27-3100 and A340-27-4106

Related French airworthiness directives 2003-121 and 2003-122 (superseded by the French airworthiness directives referenced in this proposed AD), require an inspection of the torque limiter for grease contamination if maintenance review board (MRB) Task 27.80.00-07 (lubrication of slats rotary actuators to be done every 5 years) has been done after delivery, and suspending the MRB task from the operator maintenance program for airplanes having rotary actuators with affected part numbers (P/Ns). Those P/Ns are identified in paragraph 3.3 of French airworthiness directives F-2005-067 and F-2005-068. The FAA coordinated with U.S. Airways (the only affected U.S. operator of airplanes without Airbus Modification 50138 installed in production), and confirmed that the MRB task had not been done, and that the task was removed from the U.S. Airways maintenance program for those P/Ns. Therefore, the FAA did not take AD action corresponding to French airworthiness directives 2003-121 and 2003-122, which was coordinated with Airbus and the DGAC.

Subsequently, French airworthiness directives F-2005-067 and F-2005-068 were issued to continue the requirements in French airworthiness directives 2003-121 and 2003-122, and include new requirements to modify the slat rotary actuator assembly to remove the source of the problem, rather than by repetitive inspections. The number of affected U.S.-registered airplanes has not changed, and the proposed AD specifies accomplishing the modification, as required by paragraph 3.3 of the referenced French airworthiness directives.

Airbus Service Bulletin A330-27-3100 recommends concurrently accomplishing Airbus Service Bulletin A330-27-3104, and Airbus Service Bulletin A340-27-4106 recommends concurrently accomplishing Airbus Service Bulletin A340-27-4109. Those are inspection service bulletins required by paragraph 3.1 of the referenced French airworthiness directives, and for the reasons stated above, the inspections in those service bulletins are not required by this proposed AD.

Costs of Compliance

This proposed AD would affect about 9 airplanes of U.S. registry. The proposed modification (including operational test) would take about 4 work hours per airplane, at an average labor rate of $80 per work hour. Required parts would be free of charge. Based on these figures, the estimated cost of the proposed AD for U.S. operators is $2,880, or $320 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-24522; Directorate Identifier 2006-NM-002-AD.

Comments Due Date

(a) The FAA must receive comments on this AD action by May 22, 2006.

Affected ADs

(b) None.

Applicability

(c) This AD applies to Airbus Model A330-201, 202, -203, -223, and -243; A330-301, -321, -322, -323, -341, -342, and -343; A340-211, -212, and -213; and A340-311, -312, and -313 airplanes, certificated in any category; except airplanes on which Airbus Modification 50138 was done during production.

Unsafe Condition

(d) This AD results from a leak found at the seal of the torque limiter output shaft of the Type A rotary actuator of leading edge slat No. 1. We are issuing this AD to prevent a decrease in the torque limiter function, which could result in degradation and damage to the attachment bolts of the leading edge slat, loss of the slat, and consequent reduced control of the airplane.

Compliance

(e) You are responsible for having the actions required by this AD performed within the compliance times specified, unless the actions have already been done.

Modification

(f) Within 38 months after the effective date of this AD: Modify any Type A rotary actuator assembly for the leading edge slat having part number (P/N) 954A0000-01 or -02, or P/N 954B0000-01, as applicable, by doing all the applicable actions in accordance with the Accomplishment Instructions of Airbus Service Bulletin A330-27-3100, Revision 01, dated May 23, 2005; or A340-27-4106, Revision 01, dated May 23, 2005; as applicable.

(g) Modification of any Type A rotary actuator assembly for the leading edge slat having P/N 954B0000-01, in accordance with Airbus Service Bulletin A330-27-3105 or A340-27-4110, both Revision 02, both dated October 10, 2005; as applicable; is acceptable for compliance with the corresponding modification specified in paragraph (f) of this AD.

Note 1: Airbus Service Bulletins A330-27-3100 and A340-27-4106 refer to Goodrich Actuation Systems Service Bulletin 954-27-M954-07, Revision 2, dated August 9, 2004; and Airbus Service Bulletins A330-27-3105 and A340-27-4110 refer to Goodrich Actuation Systems Service Bulletin 954-27-M954-06, Revision 2, dated May 20, 2004; as additional sources of service information for modifying the rotary actuator assembly for the leading edge slat.

Parts Installation

(h) As of the effective date of this AD, no Type A rotary actuator assembly for the leading edge slat having part number 954A0000-01, -02, or 954B0000-01 may be installed unless the part has been modified in accordance with the actions required by paragraph (f) or (g) of this AD, as applicable.

Actions Accomplished Previously

(i) Modifications done before the effective date of this AD in accordance with Airbus Service Bulletins A330-27-3100, dated October 30, 2002; A330-27-3105, dated October 30, 2002, or Revision 01, dated March 27, 2003; A340-27-4106, dated October 30, 2002; or A340-27-4110, dated October 30, 2002, or Revision 01, dated March 27, 2003; as applicable; are acceptable for compliance with the corresponding requirements of paragraphs (f) and (g) of this AD, as applicable.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) French airworthiness directives F-2005-067 and F-2005-068, both dated April 27, 2005, also address the subject of this AD.

Issued in Renton, Washington, on April 13, 2006.
Ali Bahrami,
Manager, Transport Airplane Directorate, Aircraft Certification Service.

[FR Doc. E6-5986 Filed 4-20-06; 8:45 am]

BILLING CODE 4910-13-P